DEPARTMENT OF COMMERCE

Foreign-Trade Zones Board

[B-36-2021]

Foreign-Trade Zone (FTZ) 208—New London, Connecticut, Authorization of Production Activity, Sheffield Pharmaceuticals, LLC (Healthcare Products), New London and Norwich, Connecticut

On April 21, 2021, Sheffield Pharmaceuticals, LLC submitted a notification of proposed production activity to the FTZ Board for its facilities within Subzone 208B, in New London and Norwich, Connecticut.

The notification was processed in accordance with the regulations of the FTZ Board (15 CFR part 400), including notice in the Federal Register inviting public comment (86 FR 24380, May 6, 2021). On August 19, 2021, the applicant was notified of the FTZ Board's decision that no further review of the activity is warranted at this time. The production activity described in the notification was authorized, subject to the FTZ Act and the FTZ Board's regulations, including Section 400.14.

Dated: August 19, 2021.
Andrew McGilvray,
Executive Secretary.

[FR Doc. 2021-18193 Filed 8-23-21; 8:45 am]

BILLING CODE 3510-DS-P